DEPARTMENT OF DEFENSE

Office of the Secretary

Termination of Department of Defense Federal Advisory Committees

AGENCY: DoD.

ACTION: Termination of Federal Advisory Committee.

SUMMARY: Under the provisions of the Federal Advisory Committee Act of 1972, (5 U.S.C. Appendix), 41 CFR 102-3.55(a)(1), and the Government in the Sunshine Act of 1976 (5 U.S.C. 552b), effective June 11, 2011 the Department of Defense gives notice that it is terminating the Transformation Advisory Group.

FOR FURTHER INFORMATION CONTACT: Contact Jim Freeman, Deputy Advisory Committee Management Officer for the Department of Defense, 703-601-6128.

Dated: April 1, 2011.
Morgan F. Park,
Alternate OSD Federal Register Liaison Officer, Department of Defense.

[FR Doc. 2011-8378 Filed 4-7-11; 8:45 am]

BILLING CODE 5001-06-P